DEPARTMENT OF COMMERCE

International Trade Administration

[A-357-812]

Honey From Argentina: Notice of Extension of Time Limit for Preliminary Results of Antidumping Duty Administrative Review

AGENCY: Import Administration, International Trade Administration, Department of Commerce.

FOR FURTHER INFORMATION CONTACT: John Drury, Dena Crossland or Angelica Mendoza, AD/CVD Operations, Office 7, Import Administration, International Trade Administration, U.S. Department of Commerce, 14th Street and Constitution Avenue, NW, Washington DC 20230; telephone: (202) 482-0195, (202) 482-3362 or (202) 482-3019, respectively.

SUPPLEMENTARY INFORMATION:

Background

On December 1, 2008, the Department of Commerce (“the Department”) published a notice of opportunity to request an administrative review of the antidumping duty order on honey from Argentina for the period of review (“POR”) of December 1, 2007, through November 30, 2008. See Antidumping or Countervailing Duty Order, Finding, or Suspended Investigation; Opportunity to Request Administrative Review, 73 FR 72764 (December 1, 2008).

In response, on December 30, 2008, the Asociacion de Cooperativas Argentinas (“ACA”) requested an administrative review of the antidumping duty order on honey from Argentina for the period December 1, 2007, through November 30, 2008. On December 31, 2008, the American Honey Producers Association and Sioux Honey Association (collectively, “petitioners”) requested an administrative review of the antidumping duty order on honey from Argentina for the period December 1, 2007, through November 30, 2008. Specifically, petitioners requested that the Department conduct an administrative review of entries of subject merchandise made by 17 Argentine producers/exporters.¹ Also on December 31, 2008, Nexco S.A. (“Nexco”) requested an administrative review of the antidumping duty order on honey from Argentina for the period December 1, 2007, through November 30, 2008. ACA and Nexco were included in the petitioners' request for review.

¹ Petitioners requested Compania Apicola Argentina S.A. and Mielar S.A.as separate entities. However, in a previous segment of this proceeding, the Department treated these two companies as a single entity.

On February 2, 2009, the Department published the notice initiating this administrative review for the 17 companies for which an administrative review was requested. See Initiation of Antidumping and Countervailing Duty Administrative Reviews, Request for Revocation In Part, 74 FR 5821 (February 2, 2009) (“Initiation Notice”).

The Department received a request for administrative review from Patagonik S.A. (“Patagonik”) in response to the December 1, 2008, opportunity to request an administrative review. However, its request was dated January 2, 2009, after the December 31, 2008, deadline. On January 23, 2009, the Department returned the letter requesting an administrative review to Patagonik, stating that the request was untimely and that the Department would not initiate a review based on this request. See Letter from the Department of Commerce to Patagonik S.A., dated January 23, 2009. On February 23, 2009, Patagonik submitted a letter requesting that the Department reconsider its decision not to initiate a review based on Patagonik's request. Patagonik provided information to the Department indicating the reasons for the untimely filing of the request. After examining the information, the Department again declined to initiate an administrative review based on Patagonik's request. See Letter from the Department of Commerce to Patagonik S.A., dated March 17, 2009.

On March 6, 2009, petitioners timely withdrew their requests for review of the following companies: AGLH S.A., Algodonera Avellaneda S.A., Alimentos Naturales-Natural Foods, Alma Pura, Bomare S.A. (Bodegas Miguel Armengol), Compania Apicola Argentina S.A. and Mielar S.A., Compania Inversora Platense S.A., EL Mana S.A., HoneyMax S.A., Interrupcion S.A., Miel Ceta SRL, Patagonik S.A., Productos Afer S.A., Seabird Argentina S.A., and Seylinco S.A. On April 17, 2009, the Department published a partial rescission of this administrative review with respect to these companies. See Honey from Argentina: Notice of Partial Rescission of Antidumping Duty Administrative Review, 74 FR 17815 (April 17, 2009).

On June 10, 2009, both petitioners and Nexco withdrew their requests for administrative review with respect to Nexco. The Department published a partial rescission of this administrative review with respect to Nexco on July 16, 2009. See Honey from Argentina: Notice of Partial Rescission of Antidumping Duty Administrative Review, 74 FR 34550 (July 16, 2009).

Currently, the preliminary results of this administrative review covering ACA are due on September 2, 2009.

Extension of Time Limits for Preliminary Results of Review

Pursuant to section 751(a)(3)(A) of the Tariff Act of 1930, as amended (“the Act”), and 19 CFR 351.213(h)(2), the Department may extend the deadline for completion of the preliminary results of a review by 120 days if it determines that it is not practicable to complete the preliminary results within 245 days after the last day of the anniversary month of the date of publication of the order for which the administrative review was requested. Due to the complexity of the issues involved, including the need to solicit more information from ACA, including its date of sale methodology and sales to third country markets, and to conduct verification of ACA's response in accordance with 19 CFR 351.222(f)(2)(ii), the Department has determined that it is not practicable to complete this review within the original time period. Accordingly, the Department is extending the time limit for the preliminary results by 107 days to not later than December 18, 2009, in accordance with section 751(a)(3)(A) of the Act.

The deadline for the final results of this review will continue to be 120 days after publication of the preliminary results.

This notice is published in accordance with sections 751(a)(3)(A) and 777(i) of the Act.

Dated: August 26, 2009.
John M. Andersen,
Acting Deputy Assistant Secretary for Antidumping and Countervailing Duty Operations.

[FR Doc. E9-21579 Filed 9-8-09; 8:45 am]

BILLING CODE 3510-DS-S